DEPARTMENT OF DEFENSE

Office of the Secretary

Notice of Two-Year Continuation of Disease Management Demonstration Project for TRICARE Standard Beneficiaries

AGENCY: Department of Defense.

ACTION: Notice of Two-Year Continuation of Disease Management Demonstration Project for TRICARE Standard Beneficiaries.

SUMMARY: This notice is to advise interested parties of the continuation of a Military Health System (MHS) demonstration project entitled “Disease Management Demonstration Project for TRICARE Standard Beneficiaries”. The original demonstration notice was published on June 13, 2007 (72 FR 32628-32629) and described a demonstration project to provide disease management (DM) services to TRICARE Standard beneficiaries in addition to the TRICARE Prime beneficiaries who were already entitled to such services. TRICARE began the demonstration project in March 2007 for Standard beneficiaries and this demonstration project has enabled the MHS to provide uniform policies and practices on disease and chronic care management throughout the TRICARE network. Additionally, the demonstration has helped determine the effectiveness of DM programs in improving the health status of beneficiaries with targeted chronic diseases or conditions, and any associated cost savings. The TRICARE Management Activity (TMA) chose a phased approach to determine the efficacy and cost effectiveness of its disease management demonstration, beginning with beneficiaries identified with the disease states of asthma, heart failure, and diabetes. TMA now intends to continue the disease management services to TRICARE Standard beneficiaries until a permanent TRICARE disease management benefit (per the John Warner National Defense Authorization Act of 2007, section 734) is implemented. This continuation of the disease management demonstration project will be conducted under the authority provided in 10 U.S.C. 1092.

DATES: Effective date: The extension of the demonstration will be effective April 1, 2011 and will continue for a period of two years until March 31, 2013.

ADDRESSES: TRICARE Management Activity (TMA), 5111 Leesburg Pike, Suite 810, Falls Church, VA 22041-3206.

FOR FURTHER INFORMATION CONTACT: Robin Marzullo, Disease Management Nurse Consultant, Population Health and Medical Management—TRICARE Management Activity, telephone (703) 681-6717 x 1214.

SUPPLEMENTARY INFORMATION:

A. Background

For additional information on the TRICARE demonstration project for disease management, please see 72 FR 32628-32629 and 74 FR 11089-11090. The original demonstration notice focused on explaining the differences between the disease management benefits available to TRICARE Standard and TRICARE Prime beneficiaries and the manner in which disease management services had been provided prior to the demonstration. The prior notice explained that for purposes of the demonstration, the Department of Defense (DoD) would waive, for these disease management services provided to Standard beneficiaries, the provisions of 10 U.S.C. 1079(a)(13) and 32 CFR 199.4(g)(39) that expressly exclude clinical preventive services for TRICARE Standard beneficiaries. The prior notice also explained the enrollment process and cap on disease management costs.

B. Description of Extension of Demonstration Project

Under this demonstration, DoD has waived, for disease management services provided to TRICARE Standard beneficiaries, the provisions of 10 U.S.C. 1079(a)(13) and 32 CFR 199.4(g)(39) that expressly exclude clinical preventive services for TRICARE Standard beneficiaries in the current benefit. The Military Health System (MHS) has enrolled TRICARE Standard beneficiaries in its disease management programs. Disease management services provided to Standard beneficiaries have included, but have not been limited to: Clinical preventive examinations, patient education and counseling services, and periodic screening exams. MHS disease management program costs have been capped not to exceed the amount approved by the contracting officer. The disease management program costs are total costs of disease management services provided to both Prime and Standard beneficiaries. Only those beneficiaries identified by the TRICARE Management Activity (TMA) for disease management of asthma, heart failure, diabetes, COPD, depression, anxiety, and cancer, have been included in the current program. Beneficiaries identified by TMA are included in the disease management program unless they choose to opt out. This action directly reduces variation across the system and results in improved consistency and quality for beneficiaries with targeted chronic illness, regardless of TRICARE classification. Furthermore, including TRICARE Standard beneficiaries in current disease management efforts informs the MHS about total potential savings and return on investment (ROI) associated with disease management, a stated requirement of the John Warner National Defense Authorization Act for Fiscal Year 2007. Continuing to provide disease management services to all TRICARE beneficiaries will continue to maintain our overall quality of care throughout the MHS program. By educating patients about their disease and helping them manage their symptoms, many of the complications of these diseases can be avoided, possibly slowing the progression of their chronic disease, thus resulting in significant cost savings.

C. Implementation

The extension of the demonstration will be effective on April 1, 2011. The terms and conditions of the original demonstration as provided in the Notice published at 72 FR 32368-32369 will continue on that date.

D. Evaluation

An independent evaluation of the demonstration will continue to be conducted. The evaluation is designed to use a combination of administrative and survey measures of health care outcomes (clinical, utilization, financial, and humanistic measures) to provide analyses and comment on meeting its goal of providing uniform disease management policies and practices across the MHS.

Dated: March 1, 2011.
Morgan F. Park,
Alternate OSD Federal Register Liaison Officer, Department of Defense.

[FR Doc. 2011-4865 Filed 3-3-11; 8:45 am]

BILLING CODE 5001-06-P